ENVIRONMENTAL PROTECTION AGENCY

40 CFR Part 271

[EPA-R05-RCRA-2025-1675; FRL-12244-01-R5]

Ohio: Proposed Authorization of State Hazardous Waste Management Program Revisions

AGENCY: Environmental Protection Agency (EPA).

ACTION: Proposed rule.

SUMMARY: Ohio has applied to the Environmental Protection Agency (EPA) for final authorization of changes to its hazardous waste program under the Resource Conservation and Recovery Act (RCRA), as amended. The EPA has reviewed Ohio's application and has determined that these changes satisfy all requirements needed to qualify for final authorization. Therefore, we are proposing to authorize the State's changes. The EPA seeks public comment prior to taking final action.

DATES: Comments must be received on or before December 18, 2025.

ADDRESSES: Submit your comments, identified by Docket ID Number EPA-R05-RCRA-2025-1675, by the following method:

• Federal eRulemaking Portal: https://www.regulations.gov. Follow the online instructions for submitting comments.

• Email: Daniel Leonard, leonard.daniel@epa.gov.

Instructions: EPA must receive your comments by December 18, 2025.

Docket: All documents in the docket are listed in the https://www.regulations.gov index. Although listed in the index, some information is not publicly available, e.g., CBI or other information whose disclosure is restricted by statute. Certain other material, such as copyrighted material, will be publicly available only in hard copy. Publicly available docket materials are available either electronically at https://www.regulations.gov, or in hard copy.

Written comments: EPA's policy is that all comments received will be included in the public docket without change and may be made available online at https://www.regulations.gov, including any personal information provided. The written comment is considered the official comment and should include discussion of all points you wish to make. The EPA will generally not consider comments or comment contents located outside of the primary submission (i.e., on the web, cloud, or other file sharing system). Do not submit electronically any information you consider to be Confidential Business Information (CBI) or other information whose disclosure is restricted by statute. The Federal https://www.regulations.gov website is an “anonymous access” system, which means EPA will not know your identity or contact information unless you provide it in the body of your comment. If you submit an electronic comment, EPA recommends that you include your name and other contact information in the body of your comment. If EPA cannot read your comment due to technical difficulties and cannot contact you for clarification, EPA may not be able to consider your comment. Electronic files should avoid the use of special characters, any form of encryption, and be free of any defects or viruses. (For additional information about EPA's public docket, visit the EPA Docket Center homepage at https://www.epa.gov/dockets/commenting-epa-dockets).

FOR FURTHER INFORMATION CONTACT: Daniel Leonard, Waste Management Permitting Section, Land, Chemicals, and Redevelopment Division, U.S. Environmental Protection Agency, Region 5, 77 West Jackson Boulevard, LL-17J, Chicago, IL 60604. Daniel Leonard can be reached by telephone at (312) 886-7089 or via email at leonard.daniel@epa.gov.

SUPPLEMENTARY INFORMATION:

A. Why are revisions to state programs necessary?

States that have received final authorization from EPA under RCRA section 3006(b), 42 U.S.C. 6926(b), must maintain a hazardous waste program that is equivalent to, consistent with, and no less stringent than the Federal program. As the Federal program changes, states must change their programs and ask EPA to authorize the changes. Changes to state programs may be necessary when Federal or state statutory or regulatory authority is modified or when certain other changes occur. Most commonly, states must change their programs because of changes to EPA's regulations in Title 40 of the Code of Federal Regulations (CFR) parts 124, 260 through 268, 270, 273, and 279.

New Federal requirements and prohibitions imposed by Federal regulations that EPA promulgates pursuant to the Hazardous and Solid Waste Amendments of 1984 (HSWA) take effect in authorized states at the same time that they take effect in unauthorized states. Thus, EPA will implement those requirements and prohibitions in Ohio, including the issuance of new permits implementing those requirements, until the State is granted authorization to do so.

B. What decisions has EPA made in this proposed rule?

On June 27, 2023, Ohio submitted a program revision application seeking authorization of changes to its hazardous waste program that correspond to certain Federal rules promulgated between June 21, 1990 and July 7, 2020 (also known as RCRA Clusters II through XXIX). On January 15, 2024, EPA requested further information from the Ohio Attorney General, including information regarding the State's issuance of exemptions that appeared in conflict with a previous statement from the Ohio Attorney General and which might make Ohio's program less stringent than the Federal program. On October 24, 2024, Ohio submitted a response clarifying the Ohio Attorney General's position on these exemptions. On January 17, 2025, EPA responded to Ohio EPA with a letter stating in order to complete the process for authorizing Ohio's application, Ohio should address the existing exemptions by continuing to work with EPA to make final permit decisions on permit applications under review. In addition, EPA requested that Ohio EPA memorialize its commitments to make these permit decisions and to ensure common understanding and efficient coordination for any future proposal to issue an exemption or variance. Ohio EPA has made commitments to EPA and agreed to revise its Memorandum of Agreement required under 40 CFR 271.8 with formal commitments to this effect. The EPA concludes that Ohio's application to revise its authorized program now meets all of the statutory and regulatory requirements established under RCRA, as set forth in RCRA section 3006(b), 42 U.S.C. 6926(b), and 40 CFR part 271. Therefore, EPA proposes to grant Ohio final authorization to operate its hazardous waste program with the changes described in the authorization application, and as outlined below in Section F of this document.

Ohio has responsibility for permitting treatment, storage, and disposal facilities within its borders (except in Indian country) and for carrying out the aspects of the RCRA program described in its revised program application.

C. What is the effect of this proposed authorization decision?

If Ohio is authorized for the changes described in Ohio's authorization application, these changes will become part of the authorized State hazardous waste program, and will therefore be federally enforceable. Ohio will continue to have primary enforcement authority and responsibility for its State hazardous waste program. The EPA would maintain its authorities under RCRA sections 3007, 3008, 3013, and 7003, including its authority to:

• Conduct inspections, and require monitoring, tests, analyses and reports;

• Enforce RCRA requirements, including authorized State program requirements, and suspend or revoke permits; and

• Take enforcement actions regardless of whether the State has taken its own actions.

This action will not impose additional requirements on the regulated community because the regulations which EPA is proposing to authorize in Ohio are already effective under State law and are not changed by this proposed action.

D. What happens if EPA receives comments that oppose this action?

If EPA receives oppositional comments on this proposed action, we will address all such comments in a later final rule. You may not have another opportunity to comment. If you want to comment on this authorization, you should do so at this time.

E. What has Ohio previously been authorized for?

Ohio initially received final authorization on June 28, 1989, effective June 30, 1989 (54 FR 27170, June 28, 1989) to implement the RCRA hazardous waste management program. Subsequently, the EPA granted authorization for changes to the Ohio program effective June 7, 1991 (56 FR 14203, April 8, 1991) as corrected June 19, 1991, effective August 19, 1991 (56 FR 28088); effective September 25, 1995 (60 FR 38502. July 27, 1995); effective December 23, 1996 (61 FR 54950, October 23, 1996); effective January 24, 2003 (68 FR 3429, January 24, 2003); effective January 20, 2006 (71 FR 3220, January 20, 2006); effective October 29, 2007 (72 FR 61063, October 29, 2007); effective March 19, 2012 (77 FR 25966, March 19, 2012); effective February 12, 2018 (83 FR 5948, February 12, 2018); and effective September 26, 2019 (84 FR 50766, September 26, 2019).

F. What changes are we proposing with today's action?

On June 27, 2023, Ohio submitted a final complete program revision application, seeking authorization of changes to its hazardous waste management program in accordance with 40 CFR 271.21. The EPA proposes to determine, subject to receipt of written comments that oppose this action, that Ohio's hazardous waste program revisions are equivalent to, consistent with, and no less stringent than the Federal program, and therefore satisfy all of the requirements necessary to qualify for final authorization. Therefore, EPA is proposing to authorize Ohio for the following program changes:

¹ Revision Checklists generally reflect changes to Federal regulations pursuant to a particular Federal Register publication; EPA publishes these checklists as aids to states to use for development of their authorization revision application. See EPA's RCRA State Authorization website at https://www.epa.gov/rcra/state-authorization-under-resource-conservation-and-recovery-act-rcra.

Rule checklist ¹ | Description of Federal requirement | Federal Register date and page (and/or RCRA statutory authority) | Analogous State Authority (Ohio Admin. Code effective June 12, 2023, unless otherwise specified)
79 | Hazardous Waste Treatment, Storage, and Disposal Facilities—Organic Air Emission Standards for Process Vents and Equipment Leaks | 55 FR 25454 | 3745-50-11, 3745-54-13, 3745-54-15, 3745-54-73, 3745-54-77, 3745-65-73, 3745-65-77, 3745-205-30 through 3745-205-36, 3745-205-50 through 3745-205-65, 3745-256-30 through 3745-256-35, 3745-256-50 through 3745-256-64, 3745-50-44.
87 | Organic Air Emission Standards for Process Vents and Equipment Leaks; Technical Amendment | 56 FR 19290 | 3745-205-30, 3745-205-33, 3745-205-35, 3745-205-52, 3745-65-13, 3745-65-73, 3745-256-30, 3745-256-34, 3745-256-35, 3745-256-52, 3745-256-64, 3745-50-44.
154 | Hazardous Waste Treatment, Storage, and Disposal Facilities and Hazardous Waste Generators; Organic Air Emission Standards for Tanks, Surface Impoundments, and Containers | 61 FR 59931 | 3745-50-11, 3745-50-44, 3745-50-49, 3745-51-06, 3745-54-13, 3745-54-15, 3745-54-73, 3745-54-77, 3745-55-79, 3745-55-100, 3745-56-32, 3745-57-91, 3745-65-01, 3745-65-13, 3745-65-15, 3745-65-73, 3745-65-77, 3745-66-78, 3745-66-102, 3745-67-31, 3745-205-30, 3745-205-33, 3745-205-35, 3745-205-50, 3745-205-55, 3745-205-64, 3745-205-80, 3745-205-82 through 3745-205-90, 3745-256-30, 3745-256-33 through 3745-256-35, 3745-256-30, 3745-256-55, 3745-256-58, 3745-256-64, 3745-256-80 through 3745-256-90.
158 | Hazardous Waste Management System; Testing and Monitoring Activities | 62 FR 32452 | 3745-50-11, 3745-205-34, 3745-205-63, 3745-256-34, 3745-256-63, 3745-266-106, 3745-266-107.
163 | Hazardous Waste Treatment, Storage, and Disposal Facilities and Hazardous Waste Generators; Organic Air Emission Standards for Tanks, Surface Impoundments, and Containers | 62 FR 64636 | 3745-54-15, 3745-54-73, 3745-205-30, 3745-205-31, 3745-205-33, 3745-205-50, 3745-205-60, 3745-205-62, 3745-205-64, 3745-205-80, 3745-205-82 through 3745-205-89, 3745-65-15, 3745-65-73, 3745-256-30, 3745-256-33, 3745-256-50, 3745-256-60, 3745-256-62, 3745-256-64, 3745-256-80 through 3745-256-90.
177 | Hazardous Waste Treatment, Storage, and Disposal Facilities and Hazardous Waste Generators; Organic Air Emission Standards for Tanks, Surface Impoundments, and Containers | 64 FR 3381 | 3745-205-31, 3745-205-80, 3745-205-83, 3745-205-84, 3745-205-86, 3745-256-80, 3745-256-84, 3745-256-85, 3745-256-87.
205 | National Emission Standards for Hazardous Air Pollutants (NESHAP): Surface Coating of Automobiles and Light-Duty Trucks | 69 FR 22601 | 3745-205-50, 3745-256-50.
208 | Methods Innovation Rule and SW-846 Update | 79 FR 35290 | 3745-50-11, 3745-50-44, 3745-55-90, 3745-66-90, 3745-205-34, 3745-205-63, 3745-256-34, 3745-256-63, 3745-256-81, 3745-256-84, 3745-266-100, 3745-266-102, 3745-266-103, 3745-266-106, 3745-266-112.
212 | National Emission Standards for Hazardous Air Pollutants (NESHAP): Final Standards for Hazardous Waste Combustors (Phase I Final Replacement Standards and Phase II) | 70 FR 59402 | 3745-50-11, 3745-50-44, 3745-50-51, 3745-57-40, 3745-266-100.
213 | Burden Reduction Initiative | 71 FR 16862 | 3745-50-10, 3745-50-24, 3745-50-44, 3745-50-51, 3745-54-15, 3745-54-73, 3745-65-15, 3745-65-73, 3745-66-93, 3745-205-61, 3745-205-62, 3745-256-61, 3745-256-62, 3745-266-102, 3745-266-103.
214 | Corrections to the Code of Federal Regulations | 71 FR 40254 | 3745-50-10, 3745-50-44, 3745-50-51, 3745-54-01, 3745-54-13, 3745-55-18, 3745-57-91, 3745-65-01, 3745-65-73, 3745-66-17, 3745-66-42, 3745-66-93, 3745-256-33, 3745-256-35, 3745-256-63, 3745-256-73, 3745-256-80, 3745-256-84, 3745-256-85, 3745-256-87, 3745-256-90, 3745-205-30, 3745-205-33, 3745-205-34, 3745-205-35, 3745-205-50, 3745-205-58, 3745-205-64, 3745-205-80, 3745-205-90, 3745-266-80, 3745-266-100, 3745-266-102, 3745-266-103, 3745-266-106, 3745-266-107, 3745-266-112, 3745-273-13.
223 | Hazardous Waste Technical Corrections and Clarifications | 75 FR 31716 | 3745-50-10, 3745-50-49, 3745-266-22, 3745-266-80.
233A | Revisions to the Definition of Solid Waste | 80 FR 1694 and 83 FR 24664 | 3745-50-24, 3745-50-26, 3745-50-16.
233B | Revisions to the Definition of Solid Waste | 80 FR 1694 and 83 FR 24664 | 3745-50-10, 3745-50-17.
233C | Revisions to the Definition of Solid Waste | 80 FR 1694 | 3745-51-01.
233D2 | Revisions to the Definition of Solid Waste | 80 FR 1694 and 83 FR 24664 | 3745-50-10, 3745-50-15, 3745-50-23, 3745-51-51, 3745-51-140, 3745-51-142, 3745-51-143, 3745-51-147 (effective March 7, 2025), 3745-51-148, 3745-51-400, 3745-51-410, 3745-51-411, 3745-51-420, 3745-51.
233E | Revisions to the Definition of Solid Waste | 80 FR 1694 | 2745-50-10, 3745-51-02, 3745-51-04, 3745-51-170, 3745-51-190, 3745-51-191, 3745-51-193, 3745-51-194, 3745-51-196, 3745-51-197, 3745-51-198, 3745-51-199, 3745-51-200, 3745-51-730, 3745-51-731, 3745-51-732, 3745-51-733, 3745-51-734, 3745-51-735, 3745-51-750, 3745-51-780, 3745-51-781, 3745-51-782, 3745-51-783 (effective March 7, 2025), 3745-51-786, 3745-51-789 (effective March 7, 2025).
237 | Hazardous Waste Generator Improvements Rule | 81 FR 85732 | 3745-50-10, 3745-50-11, 3745-51-01, 3745-51-04, 3745-51-06, 3745-51-420, 3745-54-01, 3745-54-15, 3745-55-70, 3745-65-01, 3745-65-15, 3745-205-30, 3745-205-50, 3745-256-30, 3745-256-50, 3745-266-80.
242 | Universal Waste Regulations: Addition of Aerosol Cans | 84 FR 67202 | 3745-50-10, 3745-50-44, 3745-54-01, 3745-65-01, 2745-273-13, 3745-273-33.
243 | Modernizing Ignitable Liquids Determinations | 85 FR 40594 | 3745-50-11, 3745-51-21.

Ohio previously added “non-empty aerosol containers” to their universal waste program, authorized September 26, 2019 (84 FR 50766). Following the February 7, 2020 addition of aerosol cans to the Federal universal waste rules (84 FR 67202, December 9, 2019), EPA determined Ohio's treatment of non-empty aerosol containers to be functionally equivalent to the Federal aerosol cans rule (84 FR 67206, December 9, 2019, see section III.F. of the preamble). In this application for authorization, Ohio has further harmonized its existing rules to match the Federal program by changing references to the State term “aerosol containers” to the Federal term “aerosol cans” and replacing aerosol-specific references with provisions from the Federal universal waste standards. As such, EPA no longer considers Ohio's treatment of aerosol cans to be broader-in-scope.

G. Which revised State rules are different from the Federal rules?

In Ohio Administrative Code 3745-50-10(10)(a), Ohio includes a parenthetical description of the word “permit” as “such as a permit to discharge water or air”. This differs from the Code of Federal Regulations which, in 40 CFR 260.10 “Contained”, adds the word “to”, using the phrase “such as a permit to discharge to water or air.” Despite being in the “definitions” section of the Code, this parenthetical does not have an effect on the definition of “permit” and the retention of “such as” does not allow this change to affect the definition of “contained”. The EPA considers Ohio's change to be identical in substance to the Federal program.

In Ohio Administrative Code 3745-51-100, Ohio sets financial assurance requirements specific to certain facilities that enter recyclable materials into a recycling process within seventy-two hours of arrival at the facility. There is no direct analogue of the 72-hour provision in the Code of Federal Regulations, but EPA compared the financial assurance requirements to the analogous Financial Requirements for Management of Excluded Hazardous Secondary Materials at 40 CFR part 261 Subpart H.

In the submitted copy of Ohio Administrative Code 3745-51-147(G)(2)(b)(ii), a citation is made to the nonexistent rule 3745-51-151(H)(2), which EPA has deemed a mistake intended to cite 3745-51-151(G)(2). Since submission of the state's application for authorization, the state promulgated a correction to its rule, effective March 7, 2025, which removes this error. The EPA considers this typographical error to make Ohio's program no less stringent than the Federal program. Accordingly, with the proposed action, EPA is planning to authorize the corrected edition of Ohio's regulation, effective March 7, 2025, rather than the edition initially applied for.

In the submitted copy of Ohio Administrative Code 3745-51-147(F)(3)(c), Ohio requires a second copy of an independent certified public accountant's report rather than the special report intended to address discrepancies in the preceding two subparagraphs found in 40 CFR 261.147(f)(3)(iii). The EPA has deemed this to be a mistaken duplication of 3745-51-147(F)(3)(b). Since submission of the state's application for authorization, the state promulgated a correction to its rule, effective March 7, 2025, which removes this error. The EPA considers this typographical error to make Ohio's program no less stringent than the Federal program. Accordingly, with the proposed action, EPA is planning to authorize the corrected edition of Ohio's regulation, effective March 7, 2025, rather than the edition initially applied for.

In the submitted copy of Ohio Administrative Code 3745-51-783(C)(4), a citation is made to the nonexistent rule 3745-51-785, which EPA has deemed a mistake intended to cite 3745-51-784(B)(1)(a). Since submission of the state's application for authorization, the state promulgated a correction to its rule, effective March 7, 2025, which removes this error. The EPA considers this typographical error to make Ohio's program no less stringent than the Federal program. Accordingly, with this proposed action, EPA is planning to authorize the corrected edition of Ohio's regulation, effective March 7, 2025, rather than the edition initially applied for.

In the submitted copy of Ohio Administrative Code 3745-51-789(A), a citation is made to the nonexistent rule 3745-51-780(B)(7), which EPA has deemed a mistake intended to cite 3745-51-780. Since submission of the state's application for authorization, the state promulgated a correction to its rule, effective March 7, 2025, which removes this error. The EPA considers this typographical error to make Ohio's program no less stringent than the Federal program. Accordingly, with this proposed action, EPA is planning to authorize the corrected edition of Ohio's regulation, effective March 7, 2025, rather than the edition initially applied for.

In Ohio Administrative Code 3745-65-73(9) through (15), Ohio requires certain interim status treatment, storage, and disposal facilities to include “the certification if applicable” in their operating records. This differs from the Code of Federal Regulations, which at 40 CFR 265.73(b)(9) through (15) require inclusion of “the certification and demonstration if applicable” in said facilities' operating records. As described at 61 FR 15588 (April 30, 2021), treatment standards for all scheduled wastes were promulgated in the Third Third rule (55 FR 22520, June 1, 1990); as such, the 40 CFR 268.8 “soft hammer” requirements are no longer necessary. Facilities no longer have a need to produce or retain demonstrations for this purpose, and so EPA considers Ohio's change to be identical in substance to the Federal program.

In Ohio Administrative Code 3745-66-43(D)(8)(b), Ohio requires closure insurance policies to remain in place at interim standards facilities after “a permit is revoked or terminated”. This differs from the Code of Federal Regulations, which at 40 CFR 265.143(d)(8)(ii) applies this to when “interim status is terminated or revoked”. Because interim status facilities do not, by definition, have permits that can be revoked, EPA deems this to be a copyediting error that does not change the overall meaning or intent of the paragraph. Should interim status be revoked from a facility, it should be considered equivalent to revocation of a permit. The EPA considers this typographical error to make Ohio's program no less stringent than the Federal program.

In Ohio Administrative Code 3745-205-33(L)(2)(b), Ohio requires treatment, storage, and disposal facilities with low-pressure closed-vent systems to perform inspections of said systems “once every calendar year”. This differs from the Code of Federal Regulations, which at 40 CFR 264.1033(l)(2)(ii) requires an inspection frequency of “once every year”. The EPA considers Ohio's change to be identical in substance to the Federal program.

In Ohio Administrative Code 3745-205-30(C), 3745-205-50(C), and 3745-205-80(C), Ohio requires the air emission standards to be incorporated into certain treatment, storage, and disposal facility permits when said permits are “modified or reissued” where 40 CFR 264.1030(c), 40 CFR 264.1050(c), and 40 CFR 264.1080(c), respectfully, use the term “reissued”. The EPA has received a satisfactory explanation from the Ohio Attorney General that these are identical in substance to the Federal program.

In Ohio Administrative Code 3745-256-84(C)(3)(b)(iv), Ohio incorporates by reference ASTM method “ASTM Method D2879-10”. This differs from the Code of Federal Regulations, which at 40 CFR 265.1084(c)(3)(ii)(D) incorporates “ASTM Method 2879-92”. Ohio's reference is to a more recently-adopted version of the same test method, so EPA considers Ohio's change to be identical in substance to the Federal program.

In Ohio Administrative Code 3745-256-7(H)(1), a citation is made to “method 27 of 40 CFR part 60 appendix”. This differs from the Code of Federal Regulations, which at 40 CFR 265.1087(h)(1) makes reference to “Method 27 of 40 CFR part 60, appendix A”. No other appendix of 40 CFR part 60 contains a Method 27, so the ambiguity in Ohio's reference is unlikely to cause confusion. The EPA considers this typographical error to make Ohio's program no less stringent than the Federal program.

H. Who handles permits after final authorization takes effect?

When the final authorization takes effect, Ohio will issue permits for all the provisions for which it is authorized and will administer the permits it issues. The EPA will continue to administer any RCRA hazardous waste permits or portions of permits which EPA issued prior to the effective date of the proposed authorization until they expire or are terminated. The EPA will not issue any more new permits or new portions of permits for the provisions listed in the table above, under section F of this document, after the effective date of the authorization. The EPA will continue to implement and issue permits for HSWA requirements for which Ohio is not yet authorized. The EPA has the authority to enforce state-issued permits after the State is authorized.

I. How does today's action affect Indian country (18 U.S.C. 1151) in Ohio?

Ohio is not authorized to carry out its hazardous waste program in Indian country within the State, which includes:

• All lands within the exterior boundaries of Indian reservations within or abutting the State of Ohio;

• Any land held in trust by the U.S. for an Indian tribe; and

• Any other land, whether on or off an Indian reservation, that qualifies as Indian country.

Therefore, this action has no effect on Indian country. The EPA retains jurisdiction over Indian country and will continue to implement and administer the RCRA program on these lands.

J. What is codification and is EPA codifying Ohio's hazardous waste program as authorized in this rule?

Codification is the process of placing a state's statutes and regulations that comprise a state's authorized hazardous waste program into the Code of Federal Regulations. We do this by referencing the authorized state rules in 40 CFR part 272. The EPA is not proposing to codify the authorization of Ohio's changes at this time. However, EPA reserves the ability to amend 40 CFR part 272, subpart KK for the authorization of Ohio's program changes at a later date.

K. Statutory and Executive Order Reviews

The Office of Management and Budget (OMB) has exempted this action from the requirements of Executive Order 12866 (58 FR 51735, October 4, 1993) and 13563 (76 FR 3821, January 21, 2011). This action proposes to authorize State requirements for the purpose of RCRA section 3006 and imposes no additional requirements beyond those imposed by State law. Therefore, this action is not subject to review by OMB. This action is not subject to Executive Order 14192 (90 FR 9065, February 6, 2025) because actions such as this proposed authorization of Ohio's revised hazardous waste program under RCRA are exempted under Executive Order 12866. Accordingly, I certify that this action will not have a significant economic impact on a substantial number of small entities under the Regulatory Flexibility Act (5 U.S.C. 601 et seq.). Because this action proposes to authorize pre-existing requirements under State law and does not impose any additional enforceable duty beyond that required by State law, it does not contain any unfunded mandate that significantly or uniquely affects small governments, as described in the Unfunded Mandates Reform Act of 1995 (2 U.S.C. 1531-1538). For the same reason, this action also does not significantly or uniquely affect the communities of Tribal governments, as specified by Executive Order 13175 (65 FR 67249, November 9, 2000). This action will not have substantial direct effects on the states, on the relationship between the national government and the states, or on the distribution of power and responsibilities among the various levels of government, as specified in Executive Order 13132 (64 FR 43255, August 10, 1999), because it merely proposes to authorize State requirements as part of the State RCRA hazardous waste program without altering the relationship or the distribution of power and responsibilities established by RCRA. This action also is not subject to Executive Order 13045 (62 FR 19885, April 23, 1997), because it is not economically significant and it does not make decisions based on environmental health or safety risks. This action is not subject to Executive Order 13211, “Actions Concerning Regulations That Significantly Affect Energy Supply, Distribution, or Use” (66 FR 28355, May 22, 2001) because it is not a significant regulatory action under Executive Order 12866.

Under RCRA section 3006(b), EPA grants a state's application for authorization as long as the state meets the criteria required by RCRA. It would thus be inconsistent with applicable law for EPA, when it reviews a state authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in proposing this rule, EPA has taken the necessary steps to eliminate drafting errors and ambiguity, minimize potential litigation, and provide a clear legal standard for affected conduct. The EPA has complied with Executive Order 12630 (53 FR 8859, March 15, 1988) by examining the takings implications of this action in accordance with the “Attorney General's Supplemental Guidelines for the Evaluation of Risk and Avoidance of Unanticipated Takings” issued under the executive order. This action does not impose an information collection burden under the provisions of the Paperwork Reduction Act of 1995 (44 U.S.C. 3501 et seq.). “Burden” is defined at 5 CFR 1320.3(b).

List of Subjects in 40 CFR Part 271

Environmental protection; Administrative practice and procedure; Confidential business information; Hazardous materials transportation; Hazardous waste; Indian lands; Intergovernmental relations; Penalties; Reporting and recordkeeping requirements.

Authority: This action is issued under the authority of Sections 2002(a), 3006 and 7004(b) of the Solid Waste Disposal Act, as amended, 42 U.S.C. 6912(a), 6926, 6974(b).

Dated: October 1, 2025.
Cheryl Newton,
Deputy Regional Administrator, Region 5.

[FR Doc. 2025-20129 Filed 11-17-25; 8:45 am]

BILLING CODE 6560-50-P